DEPARTMENT OF AGRICULTURE

Agricultural Marketing Service

[Document Number AMS-NOP-12-0017; NOP-12-06]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB). Written public comments are invited in advance of the meeting, and the meeting will include scheduled time for oral comments from the public.

DATES: The meeting will be held May 22-25, 2012, from 8 a.m. to 6 p.m. each day except Friday, May 25, 2012, when the meeting will close at 12 p.m. (Noon). The deadline for public comments in advance of the meeting is Thursday, May 3, 2012.

ADDRESSES: The meeting will take place at the Hotel Albuquerque at Old Town, 800 Rio Grande Boulevard, Albuquerque, NM 87104. Information and instructions pertaining to the meeting are posted at the following Web site address: http://www.ams.usda.gov/NOSBMeetings. For printed materials, write to Ms. Michelle Arsenault, Special Assistant, National Organic Standards Board, USDA-AMS-NOP, 1400 Independence Ave. SW., Room 2648-So., Mail Stop 0268, Washington, DC 20250-0268; Phone: (202) 720-3252; Email: nosb@ams.usda.gov.

FOR FURTHER INFORMATION CONTACT: Ms. Michelle Arsenault, Special Assistant, National Organic Standards Board, USDA-AMS-NOP, 1400 Independence Ave. SW., Room 2648-So., Mail Stop 0268, Washington, DC 20250-0268; Phone: (202) 720-3252; Email: nosb@ams.usda.gov.

SUPPLEMENTARY INFORMATION: The purpose of the NOSB is to make recommendations about whether a substance should be allowed or prohibited in organic production or handling, to assist in the development of standards for organic production, and to advise the Secretary on other aspects of the implementation of the Organic Foods Production Act. The NOSB currently has seven subcommittees working on various aspects of the organic program. The committees are: Compliance, Accreditation, and Certification; Crops; Handling; Livestock; Materials; Policy Development; and Genetically Modified Organism (GMO) Issues.

The primary purpose of NOSB meetings is to provide an opportunity for the organic community to weigh in on proposed NOSB recommendations and discussion items. These meetings also allow the NOSB to receive updates from the USDA National Organic Program (NOP) on issues pertaining to organic agriculture.

The meeting will be open to the public. The meeting agenda, NOSB proposals, instructions for submitting and viewing public comments, and instructions for requesting a time slot for oral comments are available on the NOP Web site at http://www.ams.usda.gov/NOSBMeetings. Topics covered at this meeting will include proposals that address petitions pertaining to the National List of Allowed and Prohibited Substances (National List), proposals that address substances on the National List that are due to sunset in 2013, proposals that address issues on materials and excluded methods, and proposals to amend the NOSB Policies and Procedures Manual.

Written public comments will be accepted through May 3, 2012. Comments received after that date may not be reviewed by the NOSB before the meeting. The NOP strongly prefers comments to be submitted electronically, however, written comments may also be submitted before April 30, 2012 via mail to Ms. Ann Michelle Arsenault, Special Assistant, National Organic Standards Board, USDA-AMS-NOP, 1400 Independence Ave. SW., Room 2648-S, Mail Stop 0268, Washington, DC 20250-0268. It is our intention to have instructions for viewing all comments at http://www.ams.usda.gov/NOSBMeetings.

The NOSB has scheduled meeting time for oral comments from the public, and will accommodate as many individuals and organizations as possible during these sessions. Individuals and organizations wishing to make oral presentations at the meeting must pre-register to request one time slot by visiting http://www.ams.usda.gov/NOSBMeetings or by calling (202) 720-3252. All persons making oral presentations are requested to also provide their comments in writing at the meeting. Written submissions may contain supplemental information other than that presented in the oral presentation. Persons submitting written comments at the meeting are asked to provide sixteen copies.

Dated: April 3, 2012.
Robert C. Keeney,
Acting Administrator, Agricultural Marketing Service.

[FR Doc. 2012-8394 Filed 4-6-12; 8:45 am]

BILLING CODE 3410-02-P